SMALL BUSINESS ADMINISTRATION

National Small Business Development Center Advisory Board; Public Meeting

The U.S. Small Business Administration, Office of Small Business Development Centers, National Advisory Board will be hosting its annual quarterly meeting to discuss such matters that may be presented by members, the staff of the U.S. Small Business Administration, and interested others. The meeting is scheduled for Wednesday, September 7, 2005, starting at 2:45 until 6 p.m. Eastern Standard Time. The meeting will take place at the Marriott Waterfront Hotel, 700 Aliceanna Street, Board Room, Baltimore, MD 21202.

Anyone wishing to attend must contact Erika Fischer, Senior Program Analyst, U.S. Small Business Administration, Office of Small Business Development Centers, 409 3rd Street, SW., Washington, DC 20416, telephone (202) 205-7045 or fax (202) 481-0681.

Matthew K. Becker,
Committee Management Officer.

[FR Doc. 05-17171 Filed 8-29-05; 8:45 am]

BILLING CODE 8025-01-P